DEPARTMENT OF INTERIOR

National Park Service

Notice of Intent to Repatriate: Louisiana State University Museum of Natural Science, Baton Rouge, LA

AGENCY: National Park Service

ACTION: Notice

Notice is hereby given in accordance with provisions of the Native American Graves Protection and Repatriation Act (NAGPRA), 43 CFR 10.8 (f), of the intent to repatriate cultural items in the possession of the Louisiana State University Museum of Natural Science, Baton Rouge, LA, that meet the definition of “unassociated funerary objects” under 25 U.S.C. 3001. The unassociated funerary objects were removed from the Alston Place site (22LE014), Lee County, MS.

This notice is published as part of the National Park Service's administrative responsibilities under NAGPRA, 25 U.S.C. 3003 (d)(3). The determinations within this notice are the sole responsibility of the museum, institution, or Federal agency that has control of the cultural items. The National Park Service is not responsible for the determinations within this notice.

In 1937, 12,510 unassociated funerary objects were removed during excavations at the Alston Place site (22LE014), Lee County, MS, by Moreau B. Chambers. Mr. Chambers donated the unassociated funerary objects to the Louisiana State University Museum of Natural Science the same year. The unassociated funerary objects are European glass beads.

The Alston Place site is a fortified habitation site and cemetery. Archeological evidence dates the latest occupation of the settlement to the 18th century. The Alston Place site has been identified both as a Chickasaw village, and as the Natchez village of Falatchao that was occupied after the Natchez fled their lands following defeat by the French in 1729.

The Chickasaw Nation of Oklahoma is descended from the earlier, historically recognized Chickasaw Tribe. The Chitimacha Tribe of Louisiana is the only federally recognized tribe that shares cultural attributes with the late prehistoric Delta-Natchezan cultural complex from which both the historically known Natchez and Chitimacha tribes are descended. On the basis of linguistic and sociocultural evidence, the Chitimacha Tribe of Louisiana is considered to be the most closely related of the federally recognized Native American groups to the historic Natchez.

Officials of the Louisiana State University Museum of Natural Science have determined that, pursuant to 25 U.S.C. 3001, Sec. 2 (3)(B), the 12,510 cultural items are reasonably believed to have been placed with or near individual human remains at the time of death or later as part of the death rite or ceremony and are believed, by a preponderance of the evidence, to have been removed from a specific burial site of an Native American individual. Officials of the Louisiana State University Museum of Natural Science also have determined that, pursuant to 25 U.S.C. 3001, Sec. 2 (2), there is a relationship of shared group identity that can be reasonably traced between the unassociated funerary objects and the Chickasaw Nation of Oklahoma and the Chitimacha Tribe of Louisiana.

Representatives of any other Indian tribe that believes itself to be culturally affiliated with the Chickasaw Nation of Oklahoma and the Chitimacha Tribe of Louisiana should contact Dr. Rebecca Saunders, Assistant Curator of Anthropology, Louisiana State Museum of Natural Science, 119 Foster Hall, Baton Rouge, LA 70803, telephone (225) 578-6562, before February 5, 2004. Repatriation of the unassociated funerary objects to the Chickasaw Nation of Oklahoma and the Chitimacha Tribe of Louisiana may proceed after that date if no additional claimants come forward.

The Louisiana State University Museum of Natural Science is responsible for notifying the Chickasaw Nation of Oklahoma and the Chitimacha Tribe of Louisiana that this notice has been published.

Dated: November 13, 2003.
John Robbins,
Assistant Director, Cultural Resources.

[FR Doc. 04-142 Filed 1-5-04; 8:45 am]

BILLING CODE 4310-50-S